DEPARTMENT OF AGRICULTURE

Forest Service

Tahoe National Forest; California; Tahoe National Forest Over-Snow Vehicle (OSV) Use Designation Environmental Impact Statement

AGENCY: Forest Service, USDA.

ACTION: Notice of intent to prepare an environmental impact statement.

SUMMARY: The Forest Service, U.S. Department of Agriculture will prepare an Environmental Impact Statement (EIS) on a proposal to designate over-snow vehicle (OSV) use on National Forest System (NFS) roads, NFS trails, and areas on NFS lands within the Tahoe National Forest; and to identify snow trails for grooming within the Tahoe National Forest. In addition, the Forest Service is proposing to establish snow depths for OSV use and snow grooming.

DATES: Comments concerning the scope of the analysis must be received by March 25, 2015. The draft environmental impact statement is expected in January 2016, and the final environmental impact statement is expected in August 2016.

ADDRESSES: Send written comments to Michael Woodbridge, on behalf of Tom Quinn, Forest Supervisor, Tahoe National Forest, 631 Coyote Street, Nevada City, CA 95959. Comments may also be sent via facsimile to 530-478-6109 or submitted on the Tahoe National Forest OSV Designation Web page: http://www.fs.fed.us/nepa/nepa_project_exp.php?project=45914.

FOR FURTHER INFORMATION CONTACT: Michael Woodbridge, Public Affairs Officer, USDA Forest Service, Tahoe National Forest, 631 Coyote Street, Nevada City, CA 95959; phone 530-478-6205; email mjwoodbridge@fs.fed.us. Hours for personal communication at the Supervisor's Office are between 8:00 a.m. and 4:30 p.m. Pacific Time, Monday through Friday.

Individuals with a hearing or speech disability may dial 711 for Telecommunication Relay Services.

SUPPLEMENTARY INFORMATION:

Snow Trail Grooming Program: For over 30 years, the Forest Service, Pacific Southwest Region, in cooperation with the California Department of Parks and Recreation Off-Highway Motor Vehicle Recreation (OHMVR) Division has enhanced winter recreation, and more specifically snowmobiling recreation, by maintaining NFS trails (snow trails) by grooming snow for snowmobile use. Most groomed snow trails are co-located on underlying NFS roads. Some grooming occurs on county roads and closed snow-covered highways. Most grooming activities are currently funded by the state off-highway vehicle trust fund.

The Forest Service manages OSV use on the Tahoe National Forest consistent with management direction contained in the Tahoe National Forest Land and Resource Management Plan (Forest Plan). The following summarizes current management of OSV use on approximately 829,510 acres of NFS lands in the Tahoe National Forest:

1. Approximately 236 miles of designated NFS OSV trails;

2. Of the approximately 236 miles of designated NFS OSV trails, approximately 188 miles are OSV trails available for grooming;

3. Approximately 105 miles of NFS trail (Pacific Crest Trail) is closed to OSV use;

4. Approximately 48,756 acres of NFS land is restricted to designated routes only;

5. Approximately 1,408 acres of NFS land is closed to OSV use from September 15 through December 31.

6. Approximately 669,537 acres of NFS land is open to off-trail cross-country OSV use; and

7. Approximately 109,808 acres of NFS land is closed to OSV use.

The final amended Subpart C of the Travel Management Rule was issued on January 28, 2015 (80 FR 4500, Jan. 28, 2015), and becomes effective on February 27, 2015. The final rule states: “Over-snow vehicle use on NFS roads, on NFS trails, and in areas on NFS lands shall be designated by the Responsible Official on administrative units or Ranger Districts, or parts of administrative units or Ranger Districts, of the NFS where snowfall is adequate for that use to occur, and, if appropriate, shall be designated by class of vehicle and time of year . . .” (36 CFR 212.81 (a)). Further, under 36 CFR 261.14, it is prohibited to possess or operate an OSV on NFS lands in that administrative unit or Ranger District other than in accordance with those designations. OSV designations made as a result of the analysis in this Environmental Impact Statement would conform to the final Subpart C of the Travel Management Rule.

Purpose and Need for Action

One purpose of this project is to effectively manage OSV use on the Tahoe National Forest to provide access, ensure that OSV use occurs when there is adequate snow, promote the safety of all users, enhance public enjoyment, minimize impacts to natural and cultural resources, and minimize conflicts among the various uses.

There is a need to provide a manageable, designated OSV system of trails and areas within the Tahoe National Forest that is consistent with and achieves the purposes of the Forest Service Travel Management Rule at 36 CFR part 212. This action responds to direction provided by the Forest Service's Travel Management Rule at 36 CFR part 212 and Subpart C of the Travel Management Rule.

The existing system of OSV trails and areas open for OSV use on the Tahoe National Forest results from implementation of Forest Plan management direction for OSV use. Public OSV use of the majority of this existing system continues to be manageable and consistent with current travel management regulations. Exceptions have been identified, based on internal and informal public input and the criteria listed at 36 CFR 212.55. These include needs to protect natural resources, provide improved access for OSV users, provide improved quiet winter recreation opportunities and ensure consistency with overall management area direction contained in the Forest Plan. These exceptions represent additional needs for change, and in these cases, changes are proposed to meet the overall objectives.

The snow trail grooming analysis would also address the need to provide a high quality snowmobile trail system on the Tahoe National Forest that is smooth and stable for the rider. Groomed trails are designed so the novice rider can use them without difficulty.

Proposed Action

The Forest Service proposes the following:

1. To designate OSV use on NFS roads, NFS trails, and areas on NFS lands within the Tahoe National Forest where snow depth is adequate for that use to occur. The Tahoe National Forest is proposing off-trail cross-country OSV use covering 665,717 acres. Trails where OSV use would be allowed would total 236 miles.

2. To identify approximately 188 miles of the Tahoe National Forest's approximately 236 miles of designated OSV trails as available for snow grooming.

3. To implement a standard of 12 inches of snow depth or more for snow trail grooming when funds and equipment are used from sources other than the OHMVR Division. When using OHMVR Division funds, their snow depth standards will be used.

4. To implement a Forest-wide snow depth requirement for OSV use that would provide for public safety and natural and cultural resource protection by (1) allowing OSV use in designated areas when there is a minimum of 12 inches of snow covering the landscape, and (2) allowing OSV use on designated NFS roads and designated NFS trails when there is a minimum of 6 inches of snow covering the road or trail. When the snow-depth requirement is not met, OSV use would be prohibited. Most snow trails would be located on existing dirt, gravel, or paved trails or roads. These trails and roads are used in the summer for highway vehicle and off highway vehicle uses.

5. To establish OSV use prohibitions in three areas. OSV use is currently prohibited on 109,808 acres of the Tahoe National Forest in accordance with the existing Forest Plan management direction. These current OSV prohibitions would continue. The Tahoe National Forest has identified three additional areas in which OSV use would be prohibited. Adopting these prohibitions would require an amendment to the Forest Plan. These areas are:

a. High Loch Leven (approximately 3,117 acres)—To provide increased non-motorized winter recreation opportunities in the Loch Leven Management Area.

b. Robinson Flat Cultural (approximately 1 acre)—To protect fragile historic building structures from damage by snowmobile use. Snowmobile riders are known to use the snow covered roofs of the historic structures as ramps at Robinson Flat.

c. Independence Lake Donated Parcels (approximately 703 acres)—To protect watershed values on steep terrain within the Independence Lake watershed which provides habitat for the Lahontan cutthroat trout, a species listed as Threatened under the Endangered Species Act.

6. To designate OSV crossings for the Pacific Crest Trail. There would be two designated crossings, as well as two sections in which an OSV trail and the Pacific Crest Trail share the same route where the Pacific Crest Trail is located on roads.

OSV use inconsistent with these designations would be prohibited under 36 CFR part 261 once the decision is issued and OSV use maps are made available to the public.

The use designations resulting from this analysis would only apply to the use of OSVs. An OSV is defined in the Forest Service's Travel Management Regulations as “a motor vehicle that is designed for use over snow and that runs on a track or tracks and/or a ski or skis, while in use over snow” (36 CFR 212.1).

Limited administrative use by the Forest Service; use of any fire, military, emergency, or law enforcement vehicle for emergency purposes; authorized use of any combat or combat support vehicle for national defense purposes; law enforcement response to violations of law, including pursuit; and OSV use that is specifically authorized under a written authorization issued under Federal law or regulations would be exempt from these designations (36 CFR 212.81(a)).

These actions would begin immediately upon the issuance of the record of decision, which is expected in December of 2016. The Forest Service would produce an OSV use map that would resemble the existing motor vehicle use map for the Tahoe National Forest. Such a map would allow the public to identify the routes and areas where OSV use would be allowed on the Tahoe National Forest.

Responsible Official

The Tahoe National Forest Supervisor will issue the decision.

Nature of Decision To Be Made

This decision will designate OSV use on NFS roads, on NFS trails, and in areas on NFS lands in the Tahoe National Forest where snowfall is adequate for that use to occur. It will also identify the NFS trails available for snow grooming. The decision would only apply to the use of OSVs as defined in the Forest Service's Travel Management Regulations (36 CFR 212.1). The Forest Supervisor will consider all reasonable alternatives and decide whether to continue current management of OSV uses on the Tahoe National Forest, implement the proposed action, or select an alternative for the management of OSV use.

Scoping Process

This notice of intent initiates the scoping process, which guides the development of the environmental impact statement.

Scoping meetings will be held between 4 p.m. and 7 p.m. Pacific Time at the following locations:

March 2: Nevada City, Supervisor's Office, 631 Coyote Street, Nevada City, CA 95959.

March 3: Truckee, Truckee Ranger Station, 10811 Stockrest Springs Road, Truckee, CA 96161.

March 4: Sierraville, Sierraville Ranger District, 317 South Lincoln Street, Sierraville, CA 96126.

March 5: Sierra City, Sierra City Community Hall, 13 Castagna Alley, Sierra City, CA 96125.

Foresthill—Date and location to be determined.

Comments received in response to this solicitation, including names and addresses of those who comment, will be part of the public record for this proposed action. Comments submitted anonymously will also be accepted and considered.

The Tahoe National Forest OSV Use Designation Project is an activity implementing a land management plan. It is not an activity authorized under the Healthy Forests Restoration Act of 2003 (Pub. L. 108-148). Therefore, this activity is subject to pre-decisional administrative review consistent with the Consolidated Appropriations Act of 2012 (Pub. L. 112-74) as implemented by Subparts A and B of 36 CFR part 218. Certain portions of the proposed action would amend the Forest Plan. These actions are subject to pre-decisional administrative review, pursuant to Subpart B of the Planning Rule (36 CFR part 219).

Dated: February 13, 2015.
Tom Quinn,
Forest Supervisor, Tahoe National Forest.

[FR Doc. 2015-03595 Filed 2-20-15; 8:45 am]

BILLING CODE 3410-11-P